COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and services to the Procurement List that will be furnished by nonprofit agencies employing persons who are blind or have other severe disabilities.

DATES: Comments Must be Received on or Before: 7/16/2012.

ADDRESSES: Committee for Purchase From People Who Are Blind or Severely Disabled, Jefferson Plaza 2, Suite 10800, 1421 Jefferson Davis Highway Arlington, Virginia, 22202-3259.

FOR FURTHER INFORMATION OR TO SUBMIT COMMENTS CONTACT: Patricia Briscoe, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 8501-8506) in connection with the products and services proposed for addition to the Procurement List.

Comments on this certification are invited. Commenters should identify the statement(s) underlying the certification on which they are providing additional information.

End of Certification

The following products and services are proposed for addition to Procurement List for production by the nonprofit agencies listed:

Products

Hose, Fire, Orange

NSN: 4210-01-131-0247—2½″ x 50″

NSN: 4210-01-131-0249— 1½″ x 50″

NSN: 4210-01-220-6648—4″ x 50″

NSN: 4210-01-264-3871— 1½″ x 25″

NPA: NewView Oklahoma, Inc., Oklahoma City, OK

Contracting Activity: Defense Logistics Agency Troop Support, Philadelphia, Pa.

Coverage: C-List for 100% of the requirement of the U.S. Navy, as aggregated by the Defense Logistics Agency Troop Support, Philadelphia, PA.

NSN: MR 1026—Broom, Tilt Angle

NSN: MR 1030—Set, Upright Broom and Dustpan

NPA: Industries for the Blind, Inc., West Allis, WI

Contracting Activity: Military Resale-Defense Commissary Agency, Fort Lee, VA.

Coverage: C-List for the requirements of military commissaries and exchanges as aggregated by the Defense Commissary Agency.

Eyewear

NSN: 6650-00-NIB-0009—Single Vision, Plastic, Clear

NSN: 6650-00-NIB-0010—Flat Top 28, Bifocal, Plastic, Clear

NSN: 6650-00-NIB-0011—Flat Top 35, Bifocal, Plastic, Clear

NSN: 6650-00-NIB-0012—Round 25, Round 28 Bifocal, Plastic, Clear

NSN: 6650-00-NIB-0013—Flat Top 7x28, Trifocal, Plastic, Clear

NSN: 6650-00-NIB-0014—Flat Top 8x35, Trifocal, Plastic, Clear

NSN: 6650-00-NIB-0015—Progressives, Plastic, Clear

NSN: 6650-00-NIB-0016—SV, Aspheric, Lenticular, Plastic, Clear

NSN: 6650-00-NIB-0017—FT/Round, Aspheric, Lenticular, Plastic, Clear

NSN: 6650-00-NIB-0018—Bifocal, Executive, Plastic, Clear

NSN: 6650-00-NIB-0019—Single Vision, Glass, Clear

NSN: 6650-00-NIB-0020—Flat Top 28, Bifocal, Glass, Clear

NSN: 6650-00-NIB-0021—Flat Top 35, Bifocal, Glass, Clear

NSN: 6650-00-NIB-0022—Flat Top 7x28, Trifocal, Glass, Clear

NSN: 6650-00-NIB-0023—Flat Top 8x35, Trifocal, Glass, Clear

NSN: 6650-00-NIB-0024—Progressives, Glass, Clear

NSN: 6650-00-NIB-0025—Executive, Bifocal, Glass, Clear

NSN: 6650-00-NIB-0026—Single Vision, Polycarbonate, Clear

NSN: 6650-00-NIB-0027—Flat Top 28, Bifocal, Polycarbonate, Clear

NSN: 6650-00-NIB-0028—Flat Top 35, Bifocal, Polycarbonate, Clear

NSN: 6650-00-NIB-0029—Flat Top 7x28, Trifocal, Polycarbonate, Clear

NSN: 6650-00-NIB-0030—Flat Top 8x35, Trifocal, Polycarbonate, Clear

NSN: 6650-00-NIB-0031—Progressives (VIP, Adaptar, Freedom, Image), Polycarbonate

NSN: 6650-00-NIB-0032—Single Vision, Plastic, Clear

NSN: 6650-00-NIB-0033—Flat Top 28, Bifocal, Plastic, Clear

NSN: 6650-00-NIB-0034—Flat Top 35, Bifocal, Plastic, Clear

NSN: 6650-00-NIB-0035—Round 25 and 28, Bifocal, Plastic, Clear

NSN: 6650-00-NIB-0036—Flat Top 7x28, Trifocal, Plastic, Clear

NSN: 6650-00-NIB-0037—Flat Top 8x35, Trifocal, Plastic, Clear

NSN: 6650-00-NIB-0038—Progressives, Plastic, Clear

NSN: 6650-00-NIB-0039—SV, Aspheric, Lenticular, Plastic, Clear

NSN: 6650-00-NIB-0040—FT or round aspheric lenticular, Plastic, Clear

NSN: 6650-00-NIB-0041—Bifocal, Executive, Plastic, Clear

NSN: 6650-00-NIB-0042—Single Vision, Glass, Clear

NSN: 6650-00-NIB-0043—Flat Top 28, Bifocal, Glass, Clear

NSN: 6650-00-NIB-0044—Flat Top 35, Bifocal, Glass, Clear

NSN: 6650-00-NIB-0045—Flat Top 7x28, Trifocal, Glass, Clear

NSN: 6650-00-NIB-0046—Flat Top 8x35, Trifocal, Glass, Clear

NSN: 6650-00-NIB-0047—Progressives (VIP, Adaptar, Freedom), Glass, Clear

NSN: 6650-00-NIB-0048—Bifocal, Executive, Glass, Clear

NSN: 6650-00-NIB-0049—Single Vision, Polycarbonate, Clear

NSN: 6650-00-NIB-0050—Flat Top 28, Polycarbonate, Clear

NSN: 6650-00-NIB-0051—Flat Top 35, Bifocal, Polycarbonate, Clear

NSN: 6650-00-NIB-0052—Flat Top 7x28, Trifocal, Polycarbonate, Clear

NSN: 6650-00-NIB-0053—Flat Top 8x35, Trifocal, Polycarbonate, Clear

NSN: 6650-00-NIB-0054—Lenses, Progressives (VIP, Adaptar, Freedom, Image), Polycarbonate

NSN: 6650-00-NIB-0055—Transition, Plastic, CR-39

NSN: 6650-00-NIB-0056—Photochromatic/Transition, (Polycarbonate Material)

NSN: 6650-00-NIB-0057—Photogrey (glass only)

NSN: 6650-00-NIB-0058—High Index transition (CR 39)

NSN: 6650-00-NIB-0059—Anti-reflective Coating (CR 39 and polycarbonate)

NSN: 6650-00-NIB-0060—Ultraviolet Coating (CR 39)

NSN: 6650-00-NIB-0061—Polarized Lenses (CR 39)

NSN: 6650-00-NIB-0062—Slab-off (polycarbonate, CR 39: trifocal and bifocal

NSN: 6650-00-NIB-0063—High Index (CR-39)

NSN: 6650-00-NIB-0064—Prism (up to 6 diopters no charge) > 6 diopters/diopter

NSN: 6650-00-NIB-0065—Diopter + or—9.0 and above

NSN: 6650-00-NIB-0066—Lenses, oversize eye, greater than 58, excluding progressive.

NSN: 6650-00-NIB-0067—Hyper 3 drop SV, jultifocal (CR 39)

NSN: 6650-00-NIB-0068—Add powers over 4.0

NSN: 6650-00-NIB-0069—Plastic or Metal

NPA: Winston Salem Industries for the Blind, Winston Salem, NC.

Contracting Activity: Service Area Office East, Veterans Health Administration, Department of Veterans Affairs, Pittsburgh, PA.

Coverage: C-List for 100% of the requirements of Veterans Integrated Service Networks 1, 3, 4, 5, 6, 7, and 8 as aggregated by the Service Area Office East, Veterans Health Administration, Department of Veterans Affairs, Pittsburgh PA.

Services

Service Type/Location: Custodial Service, U.S. Military Academy (USMA), Warrior Transition Unit, Building #624, West Point, NY.

NPA: Occupations, Inc., Middletown, NY.

Contracting Activity: Dept of the Army, W6QM MICC-West Point, West Point, NY.

Service Type/Location: Custodial Service, MSG Roy P. Benavidez Memorial, U.S. Army Reserve Center (USARC), 6400 Dryer Street, El Paso, TX.

NPA: Let's Go To Work, El Paso, TX.

Contracting Activity: Dept of the Army, W6QM MICC-FT Hunter (RC-W), Presidio of Monterey, CA.

Service Type/Location: Mailroom Service, National Labor Relations Board, HQ, 1099 14th Street NW., Washington, DC.

NPA: Linden Resources, Inc., Arlington, VA.

Contracting Activity: National Labor Relations Board, Washington, DC.

Service Type/Location: Janitorial Service, U.S. Army Corps of Engineers (USACE) Kansas City District, Building 234, 750 West Warehouse Road, Fort Leavenworth, KS.

NPA: The Helping Hand of Goodwill Industries Extended Employment SWS, Kansas City, MO.

Contracting Activity: Dept of the Army, W071 ENDIST Kansas City, Kansas City, MO.

Service Type/Location: Custodial and Landscaping Services, Ft. Pierce U.S. Federal Courthouse, 101 South U.S. Highway 1, Ft. Pierce, FL.

NPA: Goodwill Industries of South Florida, Inc., Miami, FL.

Contracting Activity: General Services Administration, Public Buildings Service, Atlanta, GA.

Service Type/Location: Grounds Maintenance, U.S. Department of Agriculture (USDA) Animal and Plant Health Inspection Service (APHIS), Plant Protection and Quarantine (PPQ), 6302 NW 36th Street, Miami, FL.

NPA: Goodwill Industries of South Florida, Inc., Miami, FL.

Contracting Activity: Dept. of Agriculture, Animal and Plant Health Inspection Service, Minneapolis, MN.

Service Type/Locations: Custodial and Grounds Services,

Anderson Federal Building-Courthouse, 315 South McDuffie Street, Anderson, SC.

Donald A. Russell Federal Building-Courthouse, 201 Magnolia Street, Spartanburg, SC.

NPA: SC Vocations & Individual Advancement, Inc., Greenville, SC.

Contracting Activity: General Services Administration, Public Buildings Service, Atlanta, GA.

Service Type/Location: Administrative Services, Housing and Urban Development (HUD)—Atlanta Field Office, 40 Marietta Street, Atlanta, GA.

NPA: Nobis Enterprises, Inc., Marietta, GA.

Contracting Activity: Dept. of Housing and Urban Development, Chicago Regional Office, RCO, Chicago, IL.

Service Type/Locations: Warehouse & Supply Support Services,

Naval Amphibious Base Little Creek, Building 1558, 2425 Stalwart Drive, Norfolk, VA.

Norfolk Naval Base, 1837 Morris Street, Building Z133, Aircraft Tow Way, Building V53, Norfolk, VA.

St. Juliens Creek Annex, Building 174 “E” Street, Buildings 59 & 79 Magazine Road, Portsmouth, VA.

Washington Navy Yard, 1325 10th Street SE., Washington, DC

NPA: Goodwill Services, Inc., Richmond, VA.

Contracting Activity: Dept. of the Navy, SPAWAR Systems Center Atlantic, North Charleston, SC.

Service Type/Location: Grounds Maintenance, Corpus Christi Resident Office, U.S. Army Corps of Engineers (USACE), Southern Area Office (SAO), 1920 N. Chaparral St., Corpus Christi, TX.

NPA: Training, Rehabilitation, & Development Institute, Inc., San Antonio, TX

Contracting Activity: Dept. of the Army, W076 ENDIST Galveston, Galveston, TX.

Patricia Briscoe,
Deputy Director, Business Operations, Pricing and Information Management.

[FR Doc. 2012-14671 Filed 6-14-12; 8:45 am]

BILLING CODE 6353-01-P